DEPARTMENT OF DEFENSE

Office of the Secretary

[Transmittal No. 24-64]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6523, urooj.zahra.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 24-64, Policy Justification, and Sensitivity of Technology.

Dated: September 30, 2025.
Aaron T. Siegel,
Alternate OSD Federal Register Liaison Officer, Department of Defense.

BILLING CODE 6001-FR-P

BILLING CODE 6001-FR-C

Transmittal No. 24-64

Notice of Proposed Issuance of Letter of Offer Pursuant to Section 36(b)(1) of the Arms Export Control Act, as amended

(i) Prospective Purchaser: Government of Austria

(ii) Total Estimated Value:

Major Defense Equipment * | $350 million
Other | $700 million
TOTAL | $1.05 billion

(iii) Description and Quantity or Quantities of Articles or Services under Consideration for Purchase:

Major Defense Equipment (MDE):

Twelve (12) UH-60M Black Hawk helicopters

Twenty-six (26) T700-GE-701D engines

Fifteen (15) AN/AAR-57 Counter Missile Warning Systems (CMWS)

Thirty (30) H-764U Embedded Global Positioning Systems with Inertial Navigation (EGI) with country-unique selective availability anti-spoofing modules (or Future M-Code replacement)

Non-MDE:

The following non-MDE is also included: APR-39C(V)1/4 radar warning receivers; AVR-2B laser detecting sets; AN/ARN-147(V) very high frequency omni-directional range instrument landing system receiver radio; AN/ARN-149(V) low frequency automatic direction finder (ADF) radio receiver; AN/ARN-153 Tactical Air Navigation System (TACAN) receiver transmitter; AN/APN-209 radar altimeter radios; EBC-406HM emergency locator transmitter (ELT); Improved Heads Up Display (IHUD); signal data converters for IHUD; color weather radars; MX-10D electro optical and infrared with laser designator; Engine Inlet Barrier Filters (EIBF); Ballistic Armor Protection Systems (BAPS); Internal Auxiliary Fuel Tank Systems (IAFTS); Fast Rope Insertion Extraction System (FRIES), ; External Rescue Hoist (ERH); rescue hoist equipment sets; dual patient litter system (DPLS) sets; Martin Baker palletized crew chief and gunner seats with crashworthy floor structural modifications; External Stores Support System (ESSS); instrument panel; cockpit multi-function display (MFD); degraded visual environment (DVE) system; Traffic Alert Collision Avoidance System (TCAS II); cargo hook scale; sling load observation capability; Direction Finder DF-935; environmental control system; snow skis provisions; Bambi bucket provisions; Helicopter Terrain Awareness System (HTAWS); CONRAD troop radio capability; TETRA BOS radio capability; very important person kit; 28 volts of direct current 10 ampere utility power socket (cabin); Universal Serial Bus (USB) charging outlet; Crashworthy Extended Range Fuel Systems (CEFS) tanks; Black Hawk Aircrew Trainer (BAT); training devices; helmets; transportation; organizational equipment; spare and repair parts; support equipment; tools and test equipment; technical data and publications; personnel training and training equipment; U.S. Government and contractor engineering, technical, and logistics support services; and other related elements of logistics support.

(iv) Military Department: Army (AU-B-VCS)

(v) Prior Related Cases, if any: None

(vi) Sales Commission, Fee, etc., Paid, Offered, or Agreed to be Paid: None

(vii) Sensitivity of Technology Contained in the Defense Article or Defense Services Proposed to be Sold: See Attached Annex

(viii) Date Report Delivered to Congress: May 29, 2024

* as defined in Section 47(6) of the Arms Export Control Act.

POLICY JUSTIFICATION

Austria—UH-60M Blackhawk Helicopters

The Government of Austria has requested to buy twelve (12) UH-60M Black Hawk helicopters with twenty-six (26) T700-GE-701D engines; fifteen (15) AN/AAR-57 Counter Missile Warning Systems (CMWS); and thirty (30) H-764U Embedded Global Positioning Systems with Inertial Navigation (EGI) with country-unique selective availability anti-spoofing modules (or Future M-Code replacement). The following non-MDE is also included: APR-39C(V)1/4 radar warning receivers; AVR-2B laser detecting sets; AN/ARN-147(V) very high frequency omni-directional range instrument landing system receiver radio; AN/ARN-149(V) low frequency automatic direction finder (ADF) radio receiver; AN/ARN-153 Tactical Air Navigation System (TACAN) receiver transmitter; AN/APN-209 radar altimeter radios; EBC-406HM emergency locator transmitter (ELT); Improved Heads Up Display (IHUD); signal data converters for IHUD; color weather radars; MX-10D electro optical and infrared with laser designator; Engine Inlet Barrier Filters (EIBF); Ballistic Armor Protection Systems (BAPS); Internal Auxiliary Fuel Tank Systems (IAFTS); Fast Rope Insertion Extraction System (FRIES); External Rescue Hoist (ERH); rescue hoist equipment sets; dual patient litter system (DPLS) sets; Martin Baker palletized crew chief and gunner seats with crashworthy floor structural modifications; External Stores Support System (ESSS); instrument panel; cockpit multi-function display (MFD); degraded visual environment (DVE) system; Traffic Alert Collision Avoidance System (TCAS II); cargo hook scale; sling load observation capability; Direction Finder DF-935; environmental control system; snow skis provisions; Bambi bucket provisions; Helicopter Terrain Awareness System (HTAWS); CONRAD troop radio capability; TETRA BOS radio capability; very important person kit; 28 volts of direct current 10 ampere utility power socket (cabin); Universal Serial Bus (USB) charging outlet; Crashworthy Extended Range Fuel Systems (CEFS) tanks; Black Hawk Aircrew Trainer (BAT); training devices; helmets; transportation; organizational equipment; spare and repair parts; support equipment; tools and test equipment; technical data and publications; personnel training and training equipment; U.S. Government and contractor engineering, technical, and logistics support services; and other related elements of logistics support. The estimated cost is $1.05 billion.

This proposed sale will support the foreign policy and national security objectives of the United States by helping to improve the security of a partner that is a force for political stability and economic progress in Europe.

The proposed sale will improve Austria's capability to deter current and future threats and support coalition operations and the United States' and Austria's goal of greater military interoperability. Austria will have no difficulty absorbing this equipment into its armed forces.

The proposed sale of this equipment and support will not alter the basic military balance in the region.

The principal contractors will be Lockheed Martin, Sikorsky, located in Stratford, CT. There are no known offset agreements in connection with this potential sale.

Implementation of this proposed sale will require approximately fifteen (15) U.S. Government and/or fifteen (15) contractor representatives to travel to Austria for an extended period for equipment de-processing/fielding, system checkout, training, and technical and logistics support.

There will be no adverse impact on U.S. defense readiness as a result of this proposed sale.

Transmittal No. 24-64

Notice of Proposed Issuance of Letter of Offer Pursuant to Section 36(b)(1) of the Arms Export Control Act

Annex

Item No. vii

(vii) Sensitivity of Technology:

1. The UH-60M aircraft is a medium lift four bladed helicopter with two (2) T-701D engines. The aircraft has four (4) multifunction displays (MFDs), which provide access to aircraft system, flight, mission, and communication management systems. The instrumentation panel includes four (4) MFDs, two (2) pilot and copilot Flight Director Panels, and two (2) Data Concentrator Units (DCUs). The navigation system will have Embedded Global Positioning System/with Intertial Navigation (EGIs), and two (2) Advanced Flight Control Computer Systems (AFCC), which provide 4 axis aircraft control:

a. The AN/APR-39C(V)1/4 radar warning system detects radar based rangefinders, target designators, and beam rider systems targeting an aircraft or vehicle. The APR-39 is a detection component of the suite of countermeasures designed to increase the survivability of current generation combat aircraft and specialized special operations aircraft against the threat posed by laser designated or guided weapons. This item contains sensitive technology.

b. The AN/AVR-2B Laser Warning Receiver detects laser rangefinders, target designators, and beam rider laser-aided systems targeting an aircraft or vehicle. The AVR-2B is a detection component of the suite of countermeasures designed to increase the survivability of current generation combat aircraft and specialized special operations aircraft against the threat posed by laser designated or guided weapons. This item contains sensitive technology.

c. The AAR-57 Common Missile Warning System (CMWS) is an integrated infrared countermeasures suite utilizing ultraviolet sensors to display accurate threat location and dispense decoys and countermeasures either automatically or through pilot or crew control to defeat incoming missile threats.

d. EGI provides GPS and INS capabilities to the aircraft. The EGI will include selective availability anti-spoofing module (SAASM) security modules or military code (M-code) to be used for secure GPS precision positioning service if required. The EGI within the SAASM or M-code contains sensitive technology.

2. The highest level of information that may be transferred in support of this proposed sale is classified SECRET.

3. If a technologically advanced adversary were to obtain knowledge of the specific hardware and software elements, the information could be used to develop countermeasures which might reduce weapon system effectiveness or be used in the development of a system with similar or advanced capabilities.

4. A determination has been made that Austria can provide substantially the same degree of protection of this technology as the U.S. Government. This proposed sale is necessary in furtherance of U.S. foreign policy and national security objectives outlined in the Policy Justification.

5. All defense articles, technical data, and services listed in this transmittal are authorized for release and export to the Government of Austria.

[FR Doc. 2025-19377 Filed 10-1-25; 8:45 am]

BILLING CODE 6001-FR-P